DEPARTMENT OF HOMELAND SECURITY

Coast Guard

[Docket No. USCG-2023-0822]

Port Access Route Study: Approaches to the Port of Cape Canaveral and Vessel Transit Offshore Jacksonville, Daytona, and Canaveral, Florida

AGENCY: Coast Guard, DHS.

ACTION: Notice of public meeting.

SUMMARY: A meeting will be held on September 19, 2024, to support public interest in the Coast Guard's Port Access Route Study (PARS) for the Approaches to the Port of Cape Canaveral and Vessel Transit Offshore Jacksonville, Daytona, and Canaveral, Florida. The Coast Guard will discuss the PARS notice of study that was published on April 17, 2024, and next steps for public engagement. This meeting is open to the public, and the Coast Guard invites those attending to bring additional comments that support the goals of the PARS.

Public Meeting: The meeting will be held at the Maritime Center (Commission Room), 445 Challenger Rd., Cape Canaveral, FL 32920 on Thursday, September 19, 2024, from 11 a.m. to 12:30 p.m., Eastern Daylight Time. Closer to the meeting date, guidance on how to join virtually will be published in the Local Notice to Mariners (LNM) for Coast Guard District Seven (D7) and the Sector Jacksonville Marine Safety Information Bulletin (MSIB). If the meeting date or time needs to be adjusted due to unforeseen circumstances, an updated date and time will be communicated via the LNM and MSIB. D7 LNMs can be accessed on the Coast Guard Navigation Center's website at https://www.navcen.uscg.gov/local-notices-to-mariners?district=7+0&subdistrict=n. Sector Jacksonville MSIBs can be accessed on their Homeport page at https://homeport.uscg.mil/port-directory/jacksonville.

FOR FURTHER INFORMATION CONTACT: If you have questions about this notice of public meeting or the PARS notice of study, call or email Lieutenant Meredith Overstreet, Seventh Coast Guard District (dpw), U.S. Coast Guard; telephone 206-815-5857, email Meredith.D.Overstreet1@uscg.mil.

SUPPLEMENTARY INFORMATION: On April 17, 2024, the Coast Guard published a notice in the Federal Register announcing we were conducting a PARS to evaluate safe routes for vessel traffic transiting to and from the Port of Cape Canaveral and within the offshore waters of Jacksonville, Daytona, and Canaveral, Florida.¹ In the notice, we requested public comments on the PARS that closed on July 16, 2024. Additionally, we asked the public to inform us if they wanted a public meeting regarding the study area. We received two public comments requesting a public meeting.² We are scheduling a public meeting. The details on the meeting are located in the “Public Meeting” section of this document.

¹ Coast Guard Notice of study; request for comments document titled, Port Access Route Study: “Approaches to the Port of Cape Canaveral and Vessel Transit Offshore Jacksonville, Daytona, and Canaveral, Florida” (89 FR 27435).

² These comments can be viewed on regulations.gov at: Regulations.gov. Insert “USCG-2023-0822” in the “search box.” Click on the PARS Study Notice document. Then click on the tab “Document Comments.”

To access the original notice of study, refer to docket number USCG-2023-0822 in the Federal Register by utilizing the search box at https://www.federalregister.gov/ or by following the direct link: https://www.federalregister.gov/documents/2024/04/17/2024-08191/port-access-route-study-approaches-to-the-port-of-cape-canaveral-and-vessel-transit-offshore.

This notice is published under the authority of 46 U.S.C. 70003(c)(1).

Dated: September 9, 2024.
Douglas M. Schofield,
Rear Admiral, U.S. Coast Guard, Commander, Seventh Coast Guard District.

[FR Doc. 2024-20746 Filed 9-11-24; 8:45 am]

BILLING CODE 9110-04-P